DEPARTMENT OF ENERGY

Federal Energy Regulatory Commission

[Docket No. EG01-308-000, et al.]

Camden Cogen, L.P., et al.; Electric Rate and Corporate Regulation Filings

September 13, 2001.

Take notice that the following filings have been made with the Commission:

1. Camden Cogen, L.P.

[Docket No. EG01-308-000]

Take notice that on September 10, 2001, Camden Cogen, L.P. (Camden Cogen), a Delaware limited partnership with its principal place of business in Houston, Texas, filed with the Federal Energy Regulatory Commission (Commission) an application for determination of exempt wholesale generator status pursuant to Part 365 of the Commission's regulations.

Camden Cogen owns and operates an approximate 152 MW natural gas-fired, combined-cycle, independent power production facility in Camden, New Jersey (the Facility). Electric energy produced by the Facility will be sold by Camden Cogen to the wholesale power market in the PJM.

Comment date: October 4, 2001, in accordance with Standard Paragraph E at the end of this notice. The Commission will limit its consideration of comments to those that concern the adequacy or accuracy of the application.

2. South Point Energy Center, LLC

[Docket No. EG01-309-000]

Take notice that on September 10, 2001, South Point Energy Center, LLC (South Point) filed with the Federal Energy Regulatory Commission an application for determination of exempt wholesale generator status pursuant to part 365 of the Commission's regulations.

South Point, a Delaware limited liability company, proposes to lease an electric generating facility and sell the output at wholesale to an affiliated power marketer and other purchasers. The facility is a 530 MW natural gas fired, combined cycle generating facility, which is located in Mohave County, Arizona.

Comment date: October 4, 2001, in accordance with Standard Paragraph E at the end of this notice. The Commission will limit its consideration of comments to those that concern the adequacy or accuracy of the application.

3. Reliant Energy Seward, LLC

[Docket No. EG01-310-000]

Take notice that on September 10, 2001, Reliant Energy Seward, LLC (Reliant Energy Seward) tendered for filing with the Federal Energy Regulatory Commission (Commission) an application for a determination of exempt wholesale generator status, pursuant to part 365 of the Commission's regulations.

Reliant Energy Seward is a Delaware limited liability company and proposes to acquire the existing 198-megawatt Seward generating facility located in East Wheatfield Township, Pennsylvania. The Seward generating facility presently is owned by Reliant Energy Seward's affiliate, Reliant Energy Mid-Atlantic Power Holdings, LLC. Reliant Energy Seward states that it will be engaged directly, or indirectly through one or more affiliates as defined in Section 2(a)(11)(B) of PUHCA, and exclusively in the business of owning an eligible facility, and selling electric energy at wholesale.

Comment date: October 4, 2001, in accordance with Standard Paragraph E at the end of this notice. The Commission will limit its consideration of comments to those that concern the adequacy or accuracy of the application.

4. Cogen Technologies NJ Venture

[Docket No. EG01-312-000]

Take notice that on September 10, 2001, Cogen Technologies NJ Venture (NJ Venture), a New Jersey joint venture with its principal place of business in Houston, Texas, filed with the Federal Energy Regulatory Commission (Commission) an application for determination of exempt wholesale generator status pursuant to Part 365 of the Commission's regulations.

NJ Venture owns and operates an approximate 177 MW natural gas-fired, combined-cycle, independent power production facility in Bayonne, New Jersey (the Facility). Electric energy produced by the Facility will be sold by NJ Venture to the wholesale power market in the PJM.

Comment date: October 4, 2001, in accordance with Standard Paragraph E at the end of this notice. The Commission will limit its consideration of comments to those that concern the adequacy or accuracy of the application.

5. Reliant Energy Hunterstown, LLC

[Docket No. EG01-311-000]

Take notice that on September 10, 2001, Reliant Energy Hunterstown, LLC (Reliant Energy Hunterstown) tendered for filing with the Federal Energy Regulatory Commission (Commission) an application for a determination of exempt wholesale generator status pursuant to part 365 of the Commission's regulations.

Reliant Energy Hunterstown is a Delaware limited liability company and proposes to acquire the existing 71-megawatt Hunterstown generating facility located in Straban Township, Pennsylvania. The Hunterstown generating facility presently is owned by Reliant Energy Hunterstown's affiliate, Reliant Energy Mid-Atlantic Power Holdings, LLC. Reliant Energy Hunterstown states that it will be engaged directly, or indirectly through one or more affiliates as defined in Section 2(a)(11)(B) of PUHCA, and exclusively in the business of owning an eligible facility, and selling electric energy at wholesale.

Comment date: October 4, 2001, in accordance with Standard Paragraph E at the end of this notice. The Commission will limit its consideration of comments to those that concern the adequacy or accuracy of the application.

6. New York Independent System Operator, Inc.

[Docket Nos. ER00-3591-009, ER00-1969-010, ER00-3038-005 and EL00-70-006]

Take notice that on September 6, 2001, the New York Independent System Operator, Inc. (NYISO) submitted a filing with the Federal Energy Regulatory Commission (Commission) in partial compliance to the Commission's July 16, 2001 Order issued in the above-captioned proceedings.

The NYISO has served a copy of this filing upon all parties that are included on the Commission's official service list in these proceedings.

Comment date: September 27, 2001, in accordance with Standard Paragraph E at the end of this notice.

7. Alliance Companies—Ameren Corporation on behalf of: Union Electric Company; Central Illinois Public Service Company; American Electric Power Service Corporation on behalf of: Appalachian Power Company; Columbus Southern Power Company; Indiana Michigan Power Company; Kentucky Power Company; Kingsport Power Company; Ohio Power Company; Wheeling Power Company; Consumers Energy and Michigan Electric Transmission Company; Exelon Corporation on behalf of: Commonwealth Edison Company; Commonwealth Edison Company of Indiana, Inc.; FirstEnergy Corp. on behalf of American Transmission Systems, Inc.; The Cleveland Electric Illuminating Company; Ohio Edison Company; Pennsylvania Power Company; The Toledo Edison Company; The Detroit Edison Company and International Transmission Company; Virginia Electric and Power Company; Illinois Power Company; Northern Indiana Public Service Company; The Dayton Power and Light Company

[Docket No. RT01-88-007]

Take notice that on September 10, 2001, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), Consumers Energy Company and Michigan Electric Transmission Company, The Dayton Power and Light Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, Northern Indiana Public Service Company, and Virginia Electric and Power Company (collectively, the Alliance Companies), tendered for filing with the Federal Energy Regulatory Commission (Commission) proposed substitute tariff sheets to reflect corrections to their filing made on August 31, 2001, pursuant to Section 205 of the Federal Power Act, 16 U.S.C. § 824d (2000), and Section 35.13 of the Commission's regulations, 18 CFR 35.13.

The Alliance Companies request that the proposed substitute tariff sheets become effective on December 15, 2001, Day 1 of operations of the Alliance RTO.

Comment date: October 15, 2001, in accordance with Standard Paragraph E at the end of this notice.

8. Ameren Energy Marketing Company

[Docket Nos. ER01-7-002 and ER01-1715-001]

Take notice that on September 7, 2001, Ameren Energy Marketing Company (AEM) tendered for filing with the Federal Energy Regulatory Commission (Commission or FERC), submitted as First Revised Service Agreement No. 1 under its Rate Schedule FERC No. 1 a revised version of the Electric Services Agreement (ESA) between AEM and Soyland Power Cooperative, Inc. to conform with the Commission's order in Ameren Energy Marketing Co., Docket Nos. ER01-7-001 and ER01-1715-000 (Aug. 8, 2001).

Copies of this filing were served upon Soyland as well as on all parties that have intervened in these proceedings.

Comment date: September 28, 2001, in accordance with Standard Paragraph E at the end of this notice.

9. Pacific Gas and Electric Company

[Docket No. ER01-1659-000]

Take notice that on September 10, 2001, Pacific Gas and Electric Company (PG&E), tender for filing with the Federal Energy Regulatory Commission, a Motion to Withdraw Application under Order No. 614.

Comment date: October 1, 2001, in accordance with Standard Paragraph E at the end of this notice.

10. Tampa Electric Company

[Docket No. ER01-1896-002]

Take notice that on September 7, 2001, Tampa Electric Company (Tampa Electric) refiled with the Federal Energy Regulatory Commission (Commission), its transmission service agreements with Mulberry Phosphates, Inc. (Mulberry), Cargill Fertilizer, Inc. (Cargill), and Auburndale Power Partners, Limited Partnership (Auburndale), and interconnection agreements with Cargill and Auburndale, in the format required by the Commission's Order No. 614. The filing was made in compliance with the Commission's letter order dated May 30, 2001, in Docket No. ER01-1896-000, and replaces the compliance filing in Docket No. ER01-1896-001, which was withdrawn.

Copies of the compliance filing have been served on the persons designated on the official service list in Docket Nos. ER01-1896-000 and ER01-1896-001, Mulberry, Cargill, Auburndale, and the Florida Public Service Commission.

Comment date: September 28, 2001, in accordance with Standard Paragraph E at the end of this notice.

11. Entergy Services, Inc.

[Docket No. ER01-1951-002]

Take notice that on September 7, 2001, Entergy Services, Inc. (Entergy Services), as agent for Entergy Arkansas, Inc., Entergy Gulf States, Inc., Entergy Louisiana, Inc., Entergy Mississippi, Inc., and Entergy New Orleans, Inc. (collectively, the Entergy Operating Companies), tendered for filing with the Federal Energy Regulatory Commission (Commission), certain corrections to the 2001 annual rate redetermination for Entergy Services' Open Access Transmission Tariff.

Comment date: September 28, 2001, in accordance with Standard Paragraph E at the end of this notice.

12. Duke Energy Vermillion, LLC

[Docket No. ER01-3018-000]

Take notice that on September 6, 2001, pursuant to Section 205 of the Federal Power Act and Section 35.15(a), 18 CFR 35.15 (a) of the Federal Energy Regulatory Commission's (Commission) regulations, Duke Energy Vermillion, LLC (Duke Vermillion) filed with the Commission a Notice of Cancellation of the Power Purchase Agreement by and between Duke Energy Trenton, LLC, CinCap VIII, LLC and Duke Energy Vermillion, LLC, dated as of September 30, 1999, as amended (designated as Service Agreement No. 1 under Duke Vermillion's FERC Electric Tariff, Original Volume No. 1).

Comment date: September 27, 2001, in accordance with Standard Paragraph E at the end of this notice.

13. Illinois Power Company

[Docket No. ER01-3019-000]

Take notice that on September 6, 2001, Illinois Power Company (Illinois Power), filed with the Federal Energy Regulatory Commission (Commission), two revised service agreements entered into with Exelon Generation Company, LLC (EGC) pursuant to Illinois Power's Open Access Transmission Tariff.

Illinois Power requests an effective date of September 1, 2001 for the revised service agreements and accordingly seeks a waiver of the Commission's notice requirement. Illinois Power has mailed a copy of this filing to EGC.

Comment date: September 27, 2001, in accordance with Standard Paragraph E at the end of this notice.

14. Virginia Electric and Power Company

[Docket No. ER01-3020-000]

Take notice that on September 7, 2001, Virginia Electric and Power Company (the Company), tendered for filing with the Federal Energy Regulatory Commission (Commission), Service Agreement by Virginia Electric and Power Company to El Paso Merchant Energy, L.P., designated as Service Agreement No. 6, under the Company's short-form market-based rate tariff, FERC Electric Tariff, Original Volume No. 6.

The foregoing Service Agreement is tendered for filing under the Company's short-form market-based rate tariff, FERC Electric Tariff, Original Volume No. 6, effective on June 15, 2000. The Company requests an effective date of August 15, 2001.

Copies of the filing were served upon El Paso Merchant Energy, L.P., the Virginia State Corporation Commission, and the North Carolina Utilities Commission.

Comment date: September 28, 2001, in accordance with Standard Paragraph E at the end of this notice.

15. Pinnacle West Capital Corporation

[Docket No. ER01-3021-000]

Take notice that on September 7, 2001, Pinnacle West Capital Corporation tendered for filing with the Federal Energy Regulatory (Commission), a Service Agreement under the Western Systems Power Pool Agreement for service to Sierra Pacific Power Company.

A copy of this filing has been served on Sierra Pacific Power Company.

Comment date: September 28, 2001, in accordance with Standard Paragraph E at the end of this notice.

16. Cinergy Services, Inc.

[Docket No. ER01-3022-000]

Take notice that on September 7, 2001, Cinergy Services, Inc. tendered for filing with the Federal Energy Regulatory Commission (Commission), an unexecuted Interconnection Agreement by and between Cinergy Services, Inc. (Cinergy) and Sugar Creek Energy, LLC (Sugar Creek Energy).

The unexecuted Interconnection Agreement between the parties provides for the interconnection of a generating station with the transmission system of PSI Energy, Inc. (PSI), a Cinergy utility operating company, and further defines the continuing responsibilities and obligations of the parties with respect thereto. Cinergy states that it has served a copy of its filing upon the Indiana Utility Regulatory Commission and Sugar Creek Energy.

Cinergy requests an effective date of September 6, 2001 for the unexecuted Interconnection Agreement.

Comment date: September 28, 2001, in accordance with Standard Paragraph E at the end of this notice.

17. Hinson Power Company, LLC formerly Hinson Power Company, Inc.

[Docket No. ER01-3023-000]

Take notice that on September 6, 2001, Hinson Power Company, LLC tendered for filing with the Federal Energy Regulatory Commission (Commission), a Notice of Succession pursuant to 18 CFR 35.16 and 131.51 of the Commission's regulations. Hinson Power Company, Inc. (WGSI Delaware) has changed its name to Hinson Power Company, LLC and effective August 7, 2001, succeeded to Hinson Power Company, Inc.'s Rate Schedule FERC No. 1, Market-Based Rate Schedule filed in Docket No. ER95-1314-000, which was effective August 30, 1995.

Comment date: September 27, 2001, in accordance with Standard Paragraph E at the end of this notice.

18. Duke Energy Trenton, LLC

[Docket No. ER01-3024-000]

Take notice that on September 6, 2001, pursuant to Section 205 of the Federal Power Act and Section 35.15(a), 18 CFR 35.15 (a) of the Federal Energy Regulatory Commission's (Commission) regulations, Duke Energy Trenton, LLC (Duke Trenton) filed with the Commission a Notice of Cancellation of the Master Electric Energy and Ancillary Service Sales Agreement by and between Duke Energy Trenton, LLC and Duke Energy Trading and Marketing, LLC (designated as Service Agreement No. 2 under Duke Trenton's FERC Electric Tariff, Original Volume No. 1.

Comment date: September 27, 2001, in accordance with Standard Paragraph E at the end of this notice.

19. Duke Energy Corporation

[Docket No. ER01-3025-000]

Take notice that on September 7, 2001, Duke Energy Corporation (Duke) tendered for filing with the Federal Energy Regulatory Commission (Commission), a Service Agreement with DTE Energy Trading, Inc. for Firm Transmission Service under Duke's Open Access Transmission Tariff. Duke requests that the proposed Service Agreement be permitted to become effective on August 8, 2001. Duke states that this filing is in accordance with Part 35 of the Commission's Regulations, 18 CFR 35, and that a copy has been served on the North Carolina Utilities Commission.

Comment date: September 28, 2001, in accordance with Standard Paragraph E at the end of this notice.

20. American Electric Power Service Corporation

[Docket No. ER01-3026-000]

Take notice that on September 7, 2001, the American Electric Power Service Corporation (AEPSC) tendered for filing with the Federal Energy Regulatory Commission (Commission or FERC), an executed Facilities Agreement between Ohio Power Company and Fremont Energy Center LLC. The agreement is pursuant to the AEP Companies' Open Access Transmission Service Tariff (OATT) that has been designated as the Operating Companies of the American Electric Power System FERC Electric Tariff Revised Volume No. 6, effective June 15, 2000. A copy of the filing was served upon the Ohio Public Utilities Commission.

AEP requests an effective date of November 6, 2001.

Comment date: September 28, 2001, in accordance with Standard Paragraph E at the end of this notice.

21. Central Power and Light Company

[Docket No. ER01-3027-000]

Take notice that on September 10, 2001, Central Power and Light Company (CLP) tendered for filing with the Federal Energy Regulatory Commission (Commission) an executed Interconnection Agreement, dated August 9, 2001, between CPL and Small Hydro of Texas Inc. (SMTX).

CLP requests an effective date of November 6, 2001. Copies of this filing has been served upon SMTX and the Texas Public Utility Commission.

Comment date: October 1, 2001, in accordance with Standard Paragraph E at the end of this notice.

22. Western Resources, Inc.

[Docket No. ER01-3028-000]

Take notice that on September 7, 2001, Western Resources, Inc. (WR) tendered for filing with the Federal Energy Regulatory Commission (Commission), a Service Agreement between WR and Dayton Power and Light (DPL). WR states that the purpose of this agreement is to permit DPL to take service under WR's Market Based Power Sales tariff on file with the Commission. This agreement is proposed to be effective August 8, 2001.

Copies of this filing were served upon DPL and the Kansas Corporation Commission.

Comment date: September 28, 2001, in accordance with Standard Paragraph E at the end of this notice.

23. Virginia Electric and Power Company

[Docket No. ER01-3032-000]

Take notice that on September 10, 2001, Virginia Electric and Power Company, doing business as Dominion Virginia Power, tendered for filing with the Federal Energy Regulatory Commission (Commission), an unexecuted Generator Interconnection and Operating Agreement (Interconnection Agreement) with Tenaska Virginia Partners, L.P. (Tenaska). The Interconnection Agreement sets forth the terms and conditions under which Dominion Virginia Power will provide interconnection service for Tenaska's yet to be built generating facility.

Dominion Virginia Power respectfully requests that the Commission set an effective date of November 9, 2001 for the Interconnection Agreement.

Copies of the filing were served upon Tenaska Virginia Partners, L.P. and the Virginia State Corporation Commission.

Comment date: October 1, 2001, in accordance with Standard Paragraph E at the end of this notice.

24. Duke Energy Oakland, LLC

[Docket No. ER01-3034-000]

Take notice that on September 10, 2001, Duke Energy Oakland (DEO) tendered for filing with the Federal Energy Regulatory Commission (Commission), two sets of revisions to Schedules A, B, C, and D of its Reliability Must Run Service Agreement (RMR Agreement) with the California Independent System Operator to reflect, and allow DEO to recover, the costs of DEO's rehabilitation and operation of a second engine of Unit No. 1 of DEO's Oakland Generating Facility. DEO requests effective dates of October 1, 2000, and January 1, 2001, respectively, for its two revisions. DEO also submitted in support of its Schedule revisions, “Terms of Agreement Relating To Duke Energy Oakland, LLC's Rehabilitation Of The Second Engine Of Unit 1 Of The Oakland Generating Facility,” wherein DEO, the CAISO, and Pacific Gas and Electric Company (PG&E) expressly agreed to the revisions submitted by DEO and the effective dates of the same.

Copies of the filing have been served upon the CAISO, PG&E and the California Public Utilities Commission.

Comment date: October 1, 2001, in accordance with Standard Paragraph E at the end of this notice.

25. Reliant Energy Seward, LLC and Reliant Energy Hunterstown, LLC

[Docket Nos. ER01-3035-000 and ER01-3036-000]

Take notice that on September 10, 2001, Reliant Energy Seward, LLC (Reliant Energy Seward) and Reliant Energy Hunterstown, LLC (Reliant Energy Hunterstown) (collectively, Applicants) tendered for filing with the Federal Energy Regulatory Commission (Commission or FERC), pursuant to Section 205 of the Federal Power Act, 16 U.S.C. 824d (1994), Part 35 of the Commission's regulations, 18 CFR Part 35 (2000), and Rule 205 of the Commission's Rules of Practice and Procedure, 18 CFR 385.205 (2000), a petition for waivers and blanket approvals under various regulations of the Commission and for an order accepting each Applicant's FERC Electric Tariff Original Volume No. 1 authorizing Applicant to make sales at market-based rates.

Applicants intend to sell electric energy, capacity and ancillary services at wholesale. In transactions where Applicants sell electric power, they propose to make such sales on rates, terms, and conditions to be mutually agreed to with the purchasing party. Each Applicant's Tariff provides for the sale of energy, capacity and ancillary services at agreed prices.

Comment date: October 1, 2001, in accordance with Standard Paragraph E at the end of this notice.

26. Central Power and Light Company

[Docket No. ER01-3037-000]

Take notice that on September 10, 2001, Central Power and Light Company (CPL) submitted for filing with the Federal Energy Regulatory Commission (Commission), a notice of cancellation of its service agreement with Medina Electric Cooperative, Inc. (Medina), designated Service Agreement No. 9 under CPL's Tariff No. 1, under which CPL supplies wholesale electric power service to Medina.

CPL requests that the service agreement be canceled effective October 1, 2001, and, accordingly, seeks waiver of the Commission's notice requirements. CPL states that the filing has been served on Medina and on the Public Utility Commission of Texas.

Comment date: October 1, 2001, in accordance with Standard Paragraph E at the end of this notice.

27. Wisconsin Electric Power Company

[Docket No. ER01-3038-000]

Take notice that on September 10, 2001, Wisconsin Electric Power Company (Wisconsin Electric) tendered for filing with the Federal Energy Regulatory Commission (Commission), an electric service agreement under its Market Rate Sales Tariff (FERC Electric Tariff, Original Volume No. 8) with EnergyUSA—TPC Corp. Wisconsin Electric respectfully requests an effective date of September 1, 2001 to allow for economic transactions. Wisconsin Electric requests waiver of any applicable notice requirements to allow for the requested effective date as specified.

Copies of the filing have been served on EnergyUSA—TPC Corp., the Michigan Public Service Commission, and the Public Service Commission of Wisconsin.

Comment date: October 1, 2001, in accordance with Standard Paragraph E at the end of this notice.

28. Consumers Energy Company

[Docket No. ER01-3039-000]

Take notice that on September 10, 2001, Consumers Energy Company (Consumers) tendered for filing with the Federal Energy Regulatory Commission, a Service Agreement with EnergyUSA-TPC Corp., (Customer) under Consumers' FERC Electric Tariff No. 9 for Market Based Sales. Consumers requested that the Agreement be allowed to become effective as of August 1, 2001.

Copies of the filing were served upon the Customer and the Michigan Public Service Commission.

Comment date: October 1, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23510 Filed 9-19-01; 8:45 am]

BILLING CODE 6717-01-P